ENVIRONMENTAL PROTECTION AGENCY

[EPA-HQ-OAR-2007-0544; FRL-9236-1]

Agency Information Collection Activities; Submission to OMB for Review and Approval; Comment Request; NSPS and NESHAP for Pulp and Paper Sector Residual Risk and Technology Review (RTR); EPA ICR No. 2393.01, OMB Control No. 2060-NEW

AGENCY: Environmental Protection Agency.

ACTION: Notice.

SUMMARY: In compliance with the Paperwork Reduction Act (44 U.S.C. 3501 et seq.), this document announces that an Information Collection Request (ICR) has been forwarded to the Office of Management and Budget for review and approval. This is a request for a new collection. The ICR, which is abstracted below, describes the nature of the information collection and its estimated burden and cost.

DATES: Additional comments may be submitted on or before January 6, 2011.

ADDRESSES: Submit your comments, referencing Docket ID Number EPA-HQ-OAR-2007-0544, to (1) EPA on-line using www.regulations.gov (our preferred method), by e-mail to a-and-r-docket@epa.gov, or by mail to: Air and Radiation Docket and Information Center, Environmental Protection Agency, Mailcode: 22821T, 1200 Pennsylvania Ave., NW., Washington, DC 20460, and (2) Office of Management and Budget (OMB) by mail to: Office of Information and Regulatory Affairs, Office of Management and Budget, Attention: Desk Officer for EPA, 725 17th Street, NW., Washington, DC 20503.

FOR FURTHER INFORMATION CONTACT: Bill Schrock, Office of Air Quality Planning and Standards, Mail Code E143-03, Environmental Protection Agency, Research Triangle Park, North Carolina 27711; telephone number: (919) 541-5032; fax number: (919) 541-3470; e-mail address: schrock.bill@epa.gov.

SUPPLEMENTARY INFORMATION: EPA has submitted the following ICR to OMB for review and approval according to the procedures prescribed in 5 CFR 1320.12. On June 23, 2010 (75 FR 35792), EPA sought comments on this ICR pursuant to 5 CFR 1320.8(d). EPA received three comments during the comment period, which are addressed in the ICR. Any additional comments on this ICR should be submitted to EPA and OMB within 30 days of this notice.

EPA has established a public docket for this ICR under Docket ID Number EPA-HQ-OAR-2007-0544, which is available for on-line viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use http://www.regulations.gov to obtain a copy of the draft collection of information, submit or view public comments, access the index listing of the contents of the docket, and to access those documents in the public docket that are available electronically. Once in the system, select “search,” then key in the docket ID number identified in this document. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: NSPS and NESHAP for Pulp and Paper Sector Residual Risk and Technology Review (RTR).

ICR numbers: EPA ICR Number 2393.01, OMB Control Number 2060-New.

ICR Status: This ICR is for a new information collection activity. An Agency may not conduct or sponsor, and a person is not required to respond to, a collection of information, unless it displays a currently valid OMB control number. The OMB control numbers for EPA's regulations in Title 40 of the CFR, after appearing in the Federal Register when approved, are listed in 40 CFR part 9, displayed either by publication in the Federal Register or by other appropriate means, such as on the related collection instrument or form, if applicable. The display of OMB control numbers in certain EPA regulations is consolidated in 40 CFR part 9.

Abstract: This ICR is being conducted by EPA's Office of Air and Radiation to assist the EPA Administrator, as required by sections 111(b), 112(d), and 112(f)(6) of the Clean Air Act (CAA) to determine the current affected population of pulp and paper processes and to re-evaluate emission standards for this source category. The three Federal emission standards that are the subject of this information collection include: (1) Standards of Performance for Kraft Pulp Mills (40 CFR part 60, subpart BB), (2) National Emission Standards for Hazardous Air Pollutants from the Pulp and Paper Industry (40 CFR part 63, subpart S), and (3) National Emission Standards for Hazardous Air Pollutants for Chemical Recovery Combustion Sources at Kraft, Soda, Sulfite, and Stand-Alone Semichemical Pulp Mills (40 CFR part 63, subpart MM).

The pulp and paper production source category includes any facility engaged in the production of pulp and/or paper. This category includes, but is not limited to, integrated mills (where pulp alone or pulp and paper or paperboard are manufactured on-site), non-integrated mills (where paper/paperboard or pulp are manufactured, but not both), and secondary fiber mills (where waste paper is used as the primary raw material). The pulp and paper production process units include operations such as pulping, bleaching, chemical recovery, and papermaking. Different pulping processes are used, including chemical processes (kraft, soda, sulfite, and semi-chemical) and mechanical, secondary fiber, or non-wood processes.

This one-time collection will solicit information under the authority of CAA section 114. The data collected will be used to update facility information and equipment configuration, develop new estimates of the population of affected units, and identify the control measures and alternative emission limits being used for compliance with the existing rules that are under review. This information, along with other information, will be used to establish a baseline for purposes of the regulatory reviews. The emissions test data (test reports and continuous emissions monitoring systems (CEMS) data) collected will be used to verify the performance of existing control measures, examine variability in emissions, evaluate emission limits, and to determine the performance of superior control measures considered for purposes of reducing residual risk or as options for best demonstrated technology under the NSPS review. Emissions data will also be used along with process and emission unit details to consider subcategories for further regulation and to estimate the environmental and cost impacts associated with any regulatory options considered.

Respondents/Affected Entities: Respondents affected by this action are owners/operators of mills that are major sources of hazardous air pollutant (HAP) emissions and produce pulp, perform bleaching, or manufacture paper or paperboard products, including: mills that carry out chemical wood pulping (kraft, sulfite, soda, or semi-chemical), mills that carry out mechanical, groundwood, secondary fiber, and non-wood pulping, mills that perform bleaching, and mills that manufacture paper or paperboard products.

Mills that only purchase pre-consumer paper or paperboard products and convert them into other products (i.e., converting operations) are not affected by this action.

Estimated Number of Respondents: 386 facilities.

Frequency of Response: One time.

Estimated Total Annual Hour Burden: 183,746.

Estimated Total Annual Cost: $17,386,690. This includes an estimated burden cost of $17,379,742 and an estimated cost of $6,948 for capital investment or maintenance and operational costs.

Dated: December 1, 2010.
John Moses,
Director, Collection Strategies Division.

[FR Doc. 2010-30626 Filed 12-6-10; 8:45 am]

BILLING CODE 6560-50-P